DEPARTMENT OF ENERGY

Federal Energy Regulatory Commission

[Docket No. RA15-1-000]

Vaughn Thermal Corporation; Notice of Termination of Proceeding

On May 11, 2015, Vaughn Thermal Corporation (Vaughn) filed a Petition for Review of Denial of Adjustment Request (Petition) under Subpart J of the Commission's Rules of Practice and Procedure.¹ Vaughn's petition asserted that the Department of Energy (DOE) Office of Hearings and Appeals (OHA) had improperly denied a November 21, 2014 application by Vaughn for an exception from DOE efficiency standards applicable to residential water heaters (exception application).

¹ 18 CFR 385.1001 et seq. (2015).

On September 15, 2015, the Administrative Law Judge designated to serve as the presiding officer in this proceeding submitted a report to the Commission, stating that, on September 2, 2015, the parties had filed a unanimous Stipulation and Notice of Withdrawal of Pleadings (Stipulation and Notice). The Stipulation and Notice obligated Vaughn to withdraw its Petition on the condition that DOE vacate the OHA order under review. The judge stated that, on September 11, 2015, Vaughn and DOE filed a joint notice that they had satisfied the conditions in the Stipulation and Notice. Accordingly, the judge deemed the Petition, the underlying OHA order denying Vaughn's exception application and the pending DOE motion to dismiss the Petition to be withdrawn in accordance with the Stipulation and Notice.

Take notice that the proceeding in Docket No. RA15-1-000 is, as a consequence, deemed terminated.

Dated: October 29, 2015.
Kimberly D. Bose,
Secretary.

[FR Doc. 2015-28093 Filed 11-3-15; 8:45 am]

BILLING CODE 6717-01-P